DEPARTMENT OF COMMERCE

National Oceanic and Atmospheric Administration

RIN 0648-XD698

Pacific Fishery Management Council; Public Meeting

AGENCY: National Marine Fisheries Service (NMFS), National Oceanic and Atmospheric Administration (NOAA), Commerce.

ACTION: Notice of public meeting (webinar).

SUMMARY: The Pacific Fishery Management Council (Pacific Council) will convene a joint webinar meeting of its Coastal Pelagic Species Management Team (CPSMT) and Coastal Pelagic Species Advisory Subpanel (CPSAS). Information on how to participate will be posted to the Pacific Council's Web site (www.pcouncil.org) in advance of the webinar.

DATES: The webinar meeting will be held Thursday, January 29, from 3 p.m. to 5 p.m. Pacific Time, or until business for the meeting is concluded.

ADDRESSES: A listening station will be available at the Pacific Council office: 7700 NE. Ambassador Place, Suite 101, Portland, Oregon 97220.

FOR FURTHER INFORMATION CONTACT: Kerry Griffin, Staff Officer; telephone: (503) 820-2409.

SUPPLEMENTARY INFORMATION: The primary purpose of the meeting is to develop supplemental reports, if needed, relevant to the March 2015 Council meeting in Vancouver, Washington. Topics may include the Unmanaged Forage Fish Initiative final action, Fishery Ecosystem Plan initiatives, California Current Ecosystem and Integrated Ecosystem Assessment report, legislative matters, NMFS West Coast Strategic Plan, and U.S. Coast Guard Enforcement Report. The 2015 meeting schedule and pending activities may also be discussed, on an informational basis. Action will be restricted to those issues specifically listed in this notice and any issues arising after publication of this notice that require emergency action under Section 305(c) of the Magnuson-Stevens Fishery Conservation and Management Act, provided the public has been notified of the CPSMT's and CPSAS's intent to take final action to address the emergency.

Special Accommodations

This listening station is physically accessible to people with disabilities. Requests for sign language interpretation or other auxiliary aids should be directed to Mr. Kris Kleinschmidt (503-820-2280) at least five days prior to the meeting date.

Dated: January 9, 2015.
Tracey L. Thompson,
Acting Deputy Director, Office of Sustainable Fisheries, National Marine Fisheries Service.

[FR Doc. 2015-00510 Filed 1-14-15; 8:45 am]

BILLING CODE 3510-22-P